NUCLEAR REGULATORY COMMISSION

[Docket No. 70-0157; NRC-2009-0382]

University of Texas at Austin, TX

AGENCY: Nuclear Regulatory Commission.

ACTION: License termination; issuance.

SUMMARY: The U.S. Nuclear Regulatory Commission (NRC) is providing public notice of the termination of Special Nuclear Materials (SNM) License No. SNM-180. The NRC has terminated the license held by the University of Texas at Austin (UTX-A) to possess and use SNM for research, training, and educational purposes.

DATES: The license termination for SNM-180 was issued on January 23, 2020.

ADDRESSES: Please refer to Docket ID NRC-2009-0382 when contacting the NRC about the availability of information regarding this document. You may obtain publicly-available information related to this document using any of the following methods:

• Federal Rulemaking website: Go to https://www.regulations.gov and search for Docket ID NRC-2009-0382. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: Tyrone D. Naquin, Office of Nuclear Material Safety and Safeguards, U.S. Nuclear Regulatory Commission, Washington, DC 20555-0001; telephone: 301-415-7352; email: Tyrone.Naquin@nrc.gov.

SUPPLEMENTARY INFORMATION:

I. Discussion

The NRC has terminated License No. SNM-180, held by UTX-A at its Nuclear Engineering Teaching Laboratory (NETL). The NETL used SNM to supplement its training program in the field of nuclear engineering. The licensed materials were to be used in experiments in the NETL at the J.J. Pickle Research Campus in Austin, Texas. The license was most recently renewed on November 13, 2009 and was due for renewal in November 2019. Instead, due to a change in the direction of research activities at the NETL resulting in the disuse of licensed SNM, UTX-A arranged to ship the licensed SNM to the U.S. Department of Energy (DOE) in Oak Ridge, Tennessee. By letter dated November 15, 2019, the NETL forwarded notification to the NRC that packaging and shipment to DOE had been completed.

UTX-A's initial license was issued February 27, 1958, and the most recent renewal was issued on November 13, 2009. However, the SNM licensed for use by UTX-A had been in storage and unused since prior to the last license renewal. An application to terminate the license was received by the NRC on November 15, 2019. The NRC staff prepared a safety evaluation report for the termination of SNM-180 and concluded that this license termination complies with the standards and requirements of the Atomic Energy Act of 1954, as amended, section 70.38 of title 10 of the Code of Federal Regulations (10 CFR), and other applicable NRC's rules and regulations as set forth in 10 CFR chapter 1. Accordingly, this license termination was issued on January 23, 2020.

II. Availability of Documents

The documents identified in the following table are available to interested persons through the ADAMS accession numbers as indicated.

Document | ADAMS accession No.
Initial License_SNM-180 | ML19354A020
License Renewal Application for SNM-180 (Public Version) | ML080240243
Ltr to S. Biegalski, Approval of the University of Texas at Austin License Renewal Application for the Nuclear Engineering Teaching Laboratory | ML093030048
Enclosure 4. Safety Evaluation Report for the Renewal of License SNM-180 for the University of Texas at Austin | ML093030057
University of Texas at Austin SNM-180 Termination Request (Package) | ML19337A016
Approval of Amendment Request for Special Nuclear Material—180 License Termination and Amendment 2 (Package) | ML19352E566

Dated at Rockville, Maryland, this 11th day of March 2020.
For the Nuclear Regulatory Commission.
Tyrone D. Naquin,
Project Manager, Fuel Facility Licensing Branch, Division of Fuel Management Office of Nuclear Material Safety and Safeguards.

[FR Doc. 2020-05285 Filed 3-13-20; 8:45 am]

BILLING CODE 7590-01-P